DEPARTMENT OF ENERGY

Electricity Advisory Committee

AGENCY: Department of Energy, Office of Electricity.

ACTION: Notice of open meeting.

SUMMARY: This notice announces a meeting of the Electricity Advisory Committee (EAC). The Federal Advisory Committee Act (FACA) requires that public notice of these meetings be announced in the Federal Register.

DATES:

Wednesday, October 26, 2022; 1:00 p.m.-6:00 p.m. EST

Thursday, October 27, 2022; 8:00 a.m.-12:45 p.m. EST

ADDRESSES: The October meeting of the EAC will be held at the National Rural Electric Cooperative Association Headquarters in Arlington, VA, 4301 Wilson Blvd., Ste 1, Arlington, VA 22203. Members of the public are encouraged to participate virtually, however, limited physical space is available for members of the public to attend onsite. To register to attend either in-person or virtually, please visit the meeting website: https://www.energy.gov/oe/october-26-27-2022-electricity-advisory-committee-meeting. Please note, you must register for each day you would like to attend.

FOR FURTHER INFORMATION CONTACT: Jayne Faith, Designated Federal Officer, Office of Electricity, U.S. Department of Energy, Washington, DC 20585; Telephone: (202) 586-2983 or Email: Jayne.Faith@hq.doe.gov.

SUPPLEMENTARY INFORMATION: Purpose of the Committee: The EAC was established in accordance with the provisions of FACA, as amended, to provide advice to the U.S. Department of Energy (DOE) in implementing the Energy Policy Act of 2005, executing certain sections of the Energy Independence and Security Act of 2007, and modernizing the nation's electricity delivery infrastructure. The EAC is composed of individuals of diverse backgrounds selected for their technical expertise and experience, established records of distinguished professional service, and their knowledge of issues that pertain to the electric sector.

Tentative Agenda

October 26, 2022

12:45 p.m.-1:00 p.m.—WebEx Attendee Sign-On

1:00 p.m.-1:20 p.m.—Welcome, Introductions, Developments since June 2022 Meeting

1:20 p.m.-2:20 p.m.—Update from the Office of Electricity

2:20 p.m.-2:55 p.m.—Update from the Grid Deployment Office

2:55 p.m.-3:10 p.m.—Break

3:10 p.m.-3:55 p.m.—Update from NERC on Winter Assessment

3:55 p.m.-5:20 p.m.—Energy Storage Panel

5:20 p.m.-5:50 p.m.—Energy Storage Subcommittee Update

5:50 p.m.-6:00 p.m.—Wrap-Up and Adjourn Day 1

October 27, 2022

7:45 a.m.-8:00 a.m.—WebEx Attendee Sign-On

8:00 a.m.-8:10 a.m.—Opening Remarks

8:10 a.m.-9:00 a.m.—Energy Information Administration 2022 Outlook

9:00 a.m.-11:00 a.m.—Improving Planning Process for EV Infrastructure Deployment Panel

11:00 a.m.-11:15 a.m.—Break

11:15 a.m.-12:00 p.m.—Smart Grid Subcommittee Update

12:00 a.m.-12:15 p.m.—Grid Resilience for National Security Subcommittee Update

12:15 p.m.-12:35 p.m.—Public Comments

12:35 p.m.-12:45 p.m.—Wrap-Up and Adjourn October 2022 Meeting of the EAC

The meeting agenda and times may change to accommodate EAC business. For EAC agenda updates, see the EAC website at: https://www.energy.gov/oe/october-26-27-2022-electricity-advisory-committee-meeting.

Public Participation: The EAC welcomes the attendance of the public at its meetings. Individuals who wish to offer public comments at the EAC meeting may do so on October 27 but must register in advance by 5 p.m. Eastern time on October 26. Approximately 20 minutes will be reserved for public comments. Time allotted per speaker will depend on the number who wish to speak but is not expected to exceed three minutes. Anyone who is not able to attend the meeting, or for whom the allotted public comments time is insufficient to address pertinent issues with the EAC, is invited to send a written statement identified by “Electricity Advisory Committee October 2022 Meeting,” to Ms. Jayne Faith at Jayne.Faith@hq.doe.gov.

Minutes: The minutes of the EAC meeting will be posted on the EAC web page at https://www.energy.gov/oe/october-26-27-2022-electricity-advisory-committee-meeting. They can also be obtained by contacting Ms. Jayne Faith at the address above.

Signing Authority

This document of the Department of Energy was signed on September 23, 2022, by Shena Kennerly, Acting Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 23, 2022.
Treena V. Garrett,
Federal Register Liaison Officer, U.S. Department of Energy.

[FR Doc. 2022-20977 Filed 9-27-22; 8:45 am]

BILLING CODE 6450-01-P